ENVIRONMENTAL PROTECTION AGENCY

[FRL-7217-6]

Office of Solid Waste Notice of Availability of Report to Congress

AGENCY: Environmental Protection Agency (EPA).

ACTION: Notice of availability.

SUMMARY: This document announces the availability of the Agency's Report to Congress, “Evaluating the Consensus Best Practices Developed through the Howard Hughes Medical Institutes's Collaborative Hazardous Waste Management Demonstration Project and the Need for Regulatory Changes to Carry Out Project Recommendations.” The Report was prepared at the direction of the Fiscal Year 2001 Departments of Veterans Affairs, Housing and Urban Development and Independent Agencies Appropriations Committee (Senate Report 106-410 and House Report 106-674 accompanying H.R. 4635). The Report discusses a collaborative project EPA participated in with the Howard Hughes Medical Institute, ten major academic research institutions, and states. The collaborative project established and evaluated a performance-based approach to management of hazardous wastes in the laboratories of academic research institutions.

ADDRESSES: Electronic copies of the Report may be downloaded from EPA's Web site, http://www.epa.gov/osw/specials/labwaste/index.html.

FOR FURTHER INFORMATION CONTACT: Kristin Fitzgerald, Office of Solid Waste (5304W), U.S. Environmental Protection Agency, Ariel Rios Building, 1200 Pennsylvania Avenue, NW., Washington, DC, 20460 or 703-308-8286 or fitzgerald.kristin@epa.gov.

Dated: May 22, 2002.
Elizabeth Cotsworth,
Office Director, Office of Solid Waste.

[FR Doc. 02-13518 Filed 5-28-02; 8:45 am]

BILLING CODE 6560-50-P